DEPARTMENT OF THE INTERIOR

Bureau of Indian Affairs

[190A2100DD/AAKC001030/A0A51010.999900]

Proclaiming Certain Lands as Reservation for the Shakopee Mdewakanton Sioux Community of Minnesota

AGENCY: Bureau of Indian Affairs, Interior.

ACTION: Notice.

SUMMARY: This notice informs the public that the Assistant Secretary—Indian Affairs proclaimed approximately 6.94 acres, more or less, an addition to the reservation of the Shakopee Mdewakanton Sioux Community of Minnesota on April 17, 2019.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Shakopee Mdewakanton Sioux Community of Minnesota Reservation in Scott County, Minnesota.

Shakopee Mdewakanton Sioux Community of Minnesota Reservation

Fifth Principal Meridian, Scott County, Minnesota

Legal description containing 6.94 acres, more or less

Kinlock Parcel, 411 T 1024

Outlot A, Church 1st Addition, Scott County, Minnesota.

The above described lands contain a total of 6.94 acres, more or less, which are subject to all valid rights, reservations, rights-of-way, and easements of record.

This proclamation does not affect title to the lands described above, nor does it affect any valid existing easements for public roads, highways, public utilities, railroads and pipelines, or any other valid easements or rights-of-way or reservations of record.

Dated: April 17, 2019.
Tara Sweeney,
Assistant Secretary—Indian Affairs.

[FR Doc. 2019-09610 Filed 5-8-19; 8:45 am]

BILLING CODE 4337-15-P